DEPARTMENT OF HOMELAND SECURITY

Bureau of Customs and Border Protection

Automated Commercial Environment (ACE): Elimination of C-TPAT Requirement To Establish ACE Importer and Broker Accounts

AGENCY: Customs and Border Protection; Department of Homeland Security.

ACTION: General notice.

SUMMARY: This notice announces a change to the application requirements when applying to become an Importer or Broker Account so as to access the Automated Commercial Environment (ACE) Secure Data Portal (“ACE Portal”) or to participate in any ACE test. Specifically, applicants seeking to establish importer or broker accounts so as to access the ACE Portal, or to participate in any ACE test, are no longer required to provide a statement certifying participation in the Customs Trade Partnership Against Terrorism (C-TPAT). Participation in C-TPAT has never been a requirement to establish a carrier account.

EFFECTIVE DATES: The elimination of the C-TPAT requirement to establish an account or participate in any ACE test is effective immediately.

FOR FURTHER INFORMATION CONTACT: Mr. Michael Maricich via e-mail at Michael.Maricich@dhs.gov, or by telephone at (703) 668-2406.

SUPPLEMENTARY INFORMATION:

Background

On May 1, 2002, CBP published a General Notice in the Federal Register (67 FR 21800) announcing a plan to conduct a National Customs Automation Program (NCAP) test of the first phase of the Automated Commercial Environment. In this notice, CBP stated that it planned to select approximately forty importer accounts from the list of qualified applicants for the initial deployment of this test. The notice also stated that additional participants may be selected throughout the duration of this test. In order to be considered as one of the initial participants, importers' applications had to be received by CBP by June 1, 2002. Applications had to include the importer name, a unique importer number, a statement certifying participation in C-TPAT, and a statement certifying the capability to connect to the Internet.

On June 18, 2002, CBP extended the application period for those desiring to be one of the initial importer participants by publishing a second General Notice in the Federal Register (67 FR 41572). That notice emphasized that applications to be an initial participant had to be submitted to CBP prior to August 1, 2002. Applications would be accepted after that date, but parties who so applied would be placed on a waiting list and considered for participation pending expansion of the technology.

On February 4, 2004, CBP published a third General Notice in the Federal Register (69 FR 5362) announcing the next step toward the full electronic processing of commercial importations in ACE, with a focus on identifying authorized importers and brokers to participate in the test to implement the Periodic Monthly Statement Process. The Notice stated that participants in this test would benefit by having access to operational data through the ACE Portal, enjoying the capability of being able to interact electronically with CBP, and making payments of duties and fees on a periodic monthly basis. Customs brokers, in order to apply, were required to provide names of the initial forty-one importers participating in the test by whom they had been or will have been designated as the authorized broker. In order to establish an ACE Broker Account, a broker was further required to file an application for participation which was to include the broker name, unique identification number, filer code, statement certifying participation in C-TPAT, statement certifying the capability of connecting to the Internet, statement certifying capability of making periodic payment via the Automated Clearing House (ACH) Credit or ACH Debit, and a statement certifying capability of filing entry/entry summary via Automated Broker Interface (ABI).

Also on February 4, 2004, CBP published a General Notice in the Federal Register (69 FR 5360) which described the application process to be followed in order to establish a truck carrier account so as to be eligible to participate in the electronic truck manifest functionality. C-TPAT participation is not required in order to establish a truck carrier account.

On September 8, 2004, CBP published a General Notice in the Federal Register (69 FR 54302), reminding the public that importers and their designated brokers may still apply to establish accounts so as to participate in the Periodic Monthly Statement Process. The Notice again invited customs brokers to participate in the ACE Portal test generally.

C-TPAT Participation No Longer Required

In order to encourage maximum participation in ACE and make benefits such as periodic monthly payment widely available, the application process to establish an importer or broker account or to participate in any ACE test will no longer require that a statement certifying C-TPAT participation be provided. It is important to note that this in no way indicates that the support of CBP management for the C-TPAT program has diminished. C-TPAT participants will continue to realize specific benefits such as reduced examinations. Removal of the C-TPAT requirement for participation in ACE is intended to increase the usage of ACE so as to further streamline the commercial importation process, which will benefit both the importing community and CBP.

Dated: January 27, 2005.
Jayson P. Ahern,
Assistant Commissioner, Office of Field Operations.

[FR Doc. 05-1768 Filed 1-31-05; 8:45 am]

BILLING CODE 4820-02-P